DEPARTMENT OF JUSTICE

Antitrust Division

Notice Pursuant to the National Cooperative Research and Production Act of 1993—Trustworthy Accountability Group, Inc.

Notice is hereby given that, on May 29, 2015, pursuant to section 6(a) of the National Cooperative Research and Production Act of 1993, 15 U.S.C. 4301 et seq. (“the Act”), Trustworthy Accountability Group, Inc. (“TAG”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Trustworthy Accountability Group, Inc., New York, NY. The nature and scope of TAG's standards development activities are: to address systemic market issues in four core areas: fraudulent digital advertising traffic, ad-supported Internet piracy, business transparency and malware. TAG will establish standards to address fraudulent digital advertising in the supply chain and will connect those standards to tools for identifying legitimate companies (i.e., those companies not associated with fraudulent conduct) and fraudulent activity, including but not limited to, market participant submissions to TAG of domain names involved with known fraudulent conduct which will be curated into a frequently updated list. TAG's anti-piracy standards will involve the validation of digital advertising assurance providers (and others who enter the market) to ensure they effectively provide the services they purport to offer. TAG will also develop standards to increase transparency in the digital advertising supply chain through guidelines concerning programmatic selling, as well as the disclosure of information between buyers and sellers. TAG's standards development activity will also include guidance for market participants to address the problem of malware by setting best practices and sharing malware data for curation by TAG, as well as identification and validation of legitimate actors. These standards will be voluntary and auditable.

Patricia A. Brink,
Director of Civil Enforcement, Antitrust Division.

[FR Doc. 2015-16026 Filed 6-29-15; 8:45 am]

BILLING CODE P